DEPARTMENT OF HEALTH AND HUMAN SERVICES

Centers for Disease Control and Prevention

[30Day-13-0914]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Workplace Violence Prevention Programs in NJ Healthcare Facilities (0920-0914, Expiration 1/31/2015)—Revision—National Institute for Occupational Safety and Health (NIOSH), Centers for Disease Control and Prevention (CDC).

Background and Brief Description

Healthcare workers are nearly five times more likely to be victims of violence than workers in all industries combined. While healthcare workers are not at particularly high risk for job-related homicide, nearly 60% of all nonfatal assaults occurring in private industry are experienced in healthcare. Six states have enacted laws to reduce violence against healthcare workers by requiring workplace violence prevention programs. However, little is understood about how effective these laws are in reducing violence against healthcare workers.

The objective of the proposed study is three-fold: (1) To examine healthcare facility compliance with the New Jersey Violence Prevention in Health Care Facilities Act, (2) to evaluate the effectiveness of the regulations in this Act in reducing assault injuries to workers. Our central hypothesis is that facilities with high compliance with the regulations will have lower rates of employee violence-related injury, and (3) evaluate the assault injury rate. The long-term goal of the proposed project is to reduce violence against healthcare workers.

CDC currently has approval to evaluate the legislation at hospitals and to conduct a nurse survey. Data collection is ongoing at the hospitals and for the nurse survey.

This revision will add two new respondent groups: Nursing homes and home healthcare aides. We will conduct face-to-face interviews with the Chairs of the Violence Prevention Committees in 20 nursing homes who are in charge of overseeing compliance efforts. The purpose of the interviews is to measure compliance to the state regulations. The details of their Workplace Violence Prevention Program are in their existing policies and procedures. We will also collect assault injury data from nursing homes' violent event reports 3 years pre-regulation (2009-2011) and 3 years post-regulation (2012-2014). This data is captured in existing Occupational Safety and Health Administration (OSHA) logs and is publicly available. The purpose of collecting these data is to evaluate changes in assault injury rates before and after enactment of the regulations.

We will also conduct a home healthcare aide survey (4000 respondents or 1333 annually). This survey will describe the workplace violence prevention training that home healthcare aides receive. Home healthcare aides will be recruited from a mailing list of home healthcare aides certified from the State of New Jersey Division of Consumer Affairs Board of Nursing. The mailing list was selected as the population source of workers due to the ability to capture all home healthcare aides in New Jersey.

We will test our central hypothesis by accomplishing the following specific aims:

1. Compare the comprehensiveness of nursing home workplace violence prevention programs before and after enactment of the New Jersey regulations in nursing homes; Working hypothesis: Based on our preliminary research, we hypothesize that enactment of the regulations will improve the comprehensiveness of nursing home workplace violence prevention program policies, procedures and training. Questions will also be asked about barriers and facilitators to developing the violence prevention program. These data will be collected in the post-regulation time period.

2. Describe the workplace violence prevention training home healthcare aides receive following enactment of the New Jersey regulations; Working hypothesis: Based on our preliminary research, we hypothesize that home healthcare aides receive at least 80% of the workplace violence prevention training components mandated in the New Jersey regulations.

3. Examine patterns of assault injuries to nursing home workers before and after enactment of the regulations; Working hypothesis: Based on our preliminary research, we hypothesize that rates of assault injuries to nursing home workers will decrease following enactment of the regulations.

A contractor will conduct the interviews, collect the nursing homes' policies and procedures, and collect the assault injury data.

No employee or perpetrator identifiable information will be collected.

The Health Professionals and Allied Employees union will promote the survey to their members. To maintain the worker's anonymity, the home healthcare agency in which he/she works will not be identified. There are no costs to respondents other than their time. The estimated total annualized burden hours are 960.

Estimated Annualized Burden Hours
Respondents | Form name | Number of respondents | Number of responses per respondent | Average burden per response (in hrs)
Hospital Administrators | Evaluation of Hospital Workplace Violence Prevention Program (C1) | 17 | 1 | 1
Hospital Administrators | Committee Chair Interview (C2) | 17 | 1 | 1
Hospital Administrators | Employee Incident Information (C3) | 17 | 1 | 1
Nursing Home Administrators | Evaluation of Nursing Home Workplace Violence Prevention Program (C1) | 7 | 1 | 1
Nursing Home Administrators | Committee Chair Interview (C2) | 7 | 1 | 1
Nursing Home Administrators | Employee Incident Information (C3) | 7 | 1 | 1
Nurses (RN and LPN) | Healthcare Facility Workplace Violence Prevention Programs Nurse Survey (C4) | 1333 | 1 | 20/60
Home Healthcare Aides | Healthcare Facility Workplace Violence Prevention Programs Home Healthcare Aide Survey (C5) | 1333 | 1 | 20/60

Dated: November 19, 2012.
Ron A. Otten,
Director, Office of Scientific Integrity (OSI), Office of the Associate Director for Science (OADS), Office of the Director, Centers for Disease Control and Prevention.

[FR Doc. 2012-28723 Filed 11-26-12; 8:45 am]

BILLING CODE 4163-18-P